DEPARTMENT OF HOUSING AND URBAN DEVELOPMENT

[Docket No. FR-5148-N-04]

Notice of Regulatory Waiver Requests Granted for the Fourth Quarter of Calendar Year 2007

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on October 1, 2007 and ending on December 31, 2007.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing- or speech-impairments may access this number through TTY by calling the toll-free Federal Information Relay Service at (800) 877-8339.

For information concerning a particular waiver that was granted and for which public notice is provided in this document, contact the person whose name and address follow the description of the waiver granted in the accompanying list of waivers that have been granted in the fourth quarter of calendar year 2007.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from October 1, 2007 through December 31, 2007. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2007) before the next report is published (the first quarter of calendar year 2008), HUD will include any additional waivers granted for the fourth quarter in the next report.

Accordingly, information about approved waiver requests pertaining to HUD regulations is provided in the Appendix that follows this notice.

Dated: March 14, 2008.
Robert M. Couch,
General Counsel.

Appendix—Listing of Waivers of Regulatory Requirements Granted by Offices of the Department of Housing and Urban Development October 1, 2007 through December 31, 2007

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulations: 24 CFR 92.2 and 24 CFR 92.254 (b) (2).

Project/Activity: The State of Texas Department of Housing and Community Affairs (TDHCA) requested waivers of the HOME Program regulations established at 24 CFR 92.2 and 92.254(b)(2) regarding the definition of reconstruction and the principal residence requirement to facilitate the reconstruction of affordable housing following the devastation caused by Hurricane Rita.

Nature of Requirement: Section 92.2 of the HOME regulations defines reconstruction, in part, as the rebuilding, on the same lot, of housing standing on a site at the time of project commitment. Section 92.254(b)(2) of the HOME regulations states that housing owned by an income-eligible individual qualifies as affordable housing only if the housing is the principal residence of the owner at the time HOME funds are committed to the project.

Granted By: Roy A. Bernardi, Deputy Secretary.

Date Granted: December 4, 2007.

Reasons Waived: Hurricane Rita caused serve damage to numerous homes in Texas. Some homes were partially or completely moved from their foundations. Many units were rendered unfit for habitation and their occupants were forced to seek temporary housing alternatives. Consequently, many homeowners affected by the disaster were not occupying their homes as a principal residence at the time of the commitment of HOME funds to their units. In addition, in some cases, the housing was destroyed and not standing on the site at the time of the commitment of HOME funds. It was determined that requiring the State to adhere to the reconstruction definition and principal residence requirements, at § 92.2 and § 92.254(b) (2) respectively, would create a significant hardship for the communities and income-eligible homeowners in need of assistance in areas impacted by Hurricane Rita.

Contact: Virginia Sardone, Office of Affordable Housing Programs, Office of Community Planning and Development, Department of Housing and Urban Development, 451 Seventh Street SW., Room 7154, Washington, DC 20410-7000, telephone (202) 708-2470.

• Regulations: 24 CFR 92.252(e).

Project/Activity: The County of Clackamas, Oregon, requested a waiver of the affordability period for Newell Creek Apartments. The project became uninhabitable due to earth movement and the falling away of soil at the site caused by severe and prolonged rainfall. The PJ would have been required to repay $528,000 of HOME funds because the project failed to meet the affordability period required for new construction of rental housing.

Nature of Requirement: Section 92.252(e) of the HOME regulations establishes a 20-year affordability period for new construction of rental housing.

Granted By: Roy A. Bernardi, Deputy Secretary.

Date Granted: December 4, 2007.

Reasons Waived: The County and the developer exercised due diligence by developing a viable restoration plan that included refinancing the existing debt, reconfiguring the project by demolishing several buildings and rehabilitating other units. However, the plan was rejected by the project's primary lender, which subsequently foreclosed.

Contact: Virginia Sardone, Office of Affordable Housing Programs, Office of Community Planning and Development, Department of Housing and Urban Development, 451 Seventh Street SW., Room 7154, Washington, DC 20410-7000, telephone (202) 708-2470.

• Regulations: 24 CFR 92.500(d)(1)(B)

Project/Activity: The City of Lake Charles, Louisiana requested a waiver of its HOME commitment deadline to facilitate its continued recovery from the devastation caused by Hurricanes Katrina and Rita. The City is located within a declared disaster area pursuant to Title IV of the Robert T. Stafford Disaster Relief and Emergency Assistance Act. Corresponding requirements in the Cranston-Gonzalez National Affordable Housing Act (the Act) must be suspended under the authority of section 290 of the Act.

Nature of Requirement: Section 92.500(d)(1)(B) of the HOME regulations requires that a participating jurisdiction (PJ) commit its annual allocation of HOME funds within 24 months after HUD notifies the PJ that HUD has executed the jurisdiction's HOME Investment Partnership Agreement.

Granted By: Roy A. Bernardi, Deputy Secretary.

Date Granted: November 6, 2007.

Reasons Waived: It was determined that the waiver would facilitate the continued recovery of the City of Lake Charles from the devastation caused by Hurricane Katrina and Hurricane Rita by waiving the FY 2005 HOME commitment requirement.

Contact: Virginia Sardone, Office of Affordable Housing Programs, Office of Community and Planning Development, Department of Housing and Urban Development, 451 Seventh Street SW., Room 7154, Washington, DC 20410-7000, telephone (202) 708-2470.

II. Regulatory Waivers Granted by the Office of Housing—Federal Housing Administration (FHA)

For further information about the following regulatory waivers, please see the name of the contact person that immediately follows the description of the waiver granted.

• Regulation: 24 CFR 5.801.

Project/Activity: Juniper Village at Forest Hills, Forest Hills, Pennsylvania, FHA Project Number 033-43110. The prior owner's representative requested waiver of the requirement to submit an Annual Financial Statement for the period ending December 31, 2007 for the property since the financial reporting period would be for only four days.

Nature of Requirement: Section 5.801 of HUD's regulations provides guidance for uniform financial reporting standards for public housing agencies, Section 8 project-based housing assistance or tenant-based housing assistance payments programs, owners of housing assisted under any section 8 Certificate and Voucher programs, owners of multifamily projects receiving direct or indirect assistance from HUD, or with mortgages insured, coinsured or held by HUD, HUD approved Title I and Title II non-supervised lenders, non-supervised mortgagees and loan correspondents. The financial information must be prepared in accordance with Generally Accepted Accounting Principles, submitted electronically to HUD through the internet or HUD designated format annually, no later than 60 days after the end of the fiscal year of the reporting period and in certain instances, 90 days after the end of the reporting period.

Granted By: Brian D. Montgomery, Assistant Secretary for Housing-Federal Housing Commissioner.

Date Granted: October 12, 2007.

Reason Waived: This waiver was granted because the amount of financial information for submission would be both time intensive and cost prohibitive for the new owner. This property changed ownership as a result of a Transfer of Physical Assets (TPA). The seller of a TPA transaction is required to file an Annual Financial Statement (AFS). Since the reporting period was only four days (January 1 through January 4, 2007) and the seller filed an AFS for the period ending December 31, 2006, the waiver was granted. All subsequent filings are not exempt.

Contact: Beverly J. Miller, Director, Office of Asset Management, Office of Housing, Department of Housing and Urban Development, 451 Seventh Street, SW., Room 6160, Washington, DC 20410-8000, telephone (202) 708-3730.

• Regulation: 24 CFR 203.37a.

Project/Activity: A request was made for extension of waiver of the restrictions prohibiting placement of FHA-mortgage insurance on property acquired, and subsequently resold in 90 days or less in certain disaster areas designated by the Federal Emergency Management Agency (FEMA) in the States of Alabama, Louisiana, and Mississippi, stemming from Hurricanes Katrina, Rita and Wilma.

Nature of Requirement: Section 203.37a(b)(2) of HUD's regulations provides that properties that have a resale date of 90 days or less following the date of acquisition by the seller are not eligible for an FHA-insured mortgage.

Granted By: Brian D. Montgomery, Assistant Secretary for Housing-Federal Housing Commissioner.

Date Granted: October 24, 2007.

Reason Waived: The Department recognizes that safe and adequate housing is a major factor in the restoration and stabilization of communities following a natural disaster. Investors and developers are playing a major role in the recovery of the housing stock in the FEMA designated disaster areas. The extension was granted in recognition that recovery in the impacted areas has been slow and there remained a significant number of dwellings that were severely damaged and need to be rehabilitated. Many displaced residents are waiting for restoration of these dwellings to return to the region.

Contact: Maynard T. Curry, Housing Program and Policy Specialist, Office of Single Family Program Development, Office of Housing, Department of Housing and Urban Development, 451 Seventh Street, SW., Room 9266, Washington, DC 20410-8000, telephone (202) 708-2121.

• Regulation: 24 CFR 219.220(b).

Project/Activity: Elizabeth Center Apartments, Elizabeth, New Jersey—FHA Project Number 031-55014. This project requested a waiver of the regulations to allow for the re-amortization and extension of maturity for the flexible subsidy loan on the subject property.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted By: Brian D. Montgomery, Assistant Secretary for Housing-Federal Housing Commissioner.

Date Granted: December 10, 2007.

Reason Waived: The waiver was granted because the project was experiencing financial difficulty and in need of physical repairs. It was determined that granting the waiver would allow the project to forbear repayment of the Flexible Subsidy Operating Assistance Loan in conjunction with the refinancing of the project through the Section 223(a)(7) program. Further, it would allow the property to make critical and non-critical repairs at the property as well as extend the affordability for the residents. The owner agreed to execute a Use Agreement extending affordability for 20 years beyond the date of the original maturity or the term of the new amortization, whichever is longer. All surplus cash is to be applied to the existing flexible subisdy debt helping preserve the affordability of this project.

Contact: Beverly J. Miller, Director, Office of Asset Management, Office of Housing, Department of Housing and Urban Development, 451 Seventh Street, SW., Room 6160, Washington, DC 20410-8000, telephone (202) 708-3730.

• Regulation: 24 CFR 219.220(b).

Project/Activity: Four Freedoms House, Seattle, Washington—FHA Project Number 127-SH007. The owner of this project requested approval to defer prepayment of the Flexible Subsidy loan in order to fund much-needed repairs at this property designed for the elderly.

Nature of Requirement: Section 219.220(b) of HUD regulations governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.

Granted By: Brian D. Montgomery, Assistant Secretary for Housing-Federal Housing Commissioner.

Date Granted: November 13, 2007.

Reason Waived: Waiver of this regulation was granted to provide the owner of this property approval to prepay the existing mortgage and obtain financing to perform much-needed substantial rehabilitation of the property. The owner proposed to refinance and combine the loan for Four Freedoms House with the loan on Henry M. Jackson, FHA Project Number 127-EH018, a neighboring project with the same ownership; pay a lump sum of $100,000 toward the flexible subsidy loan at the time of the refinancing and fully retire the remaining flexible subsidy debt over the new mortgage term and deposit $1,000 per unit into the Reserve for Replacement account. All surplus cash is to be applied to the debt, the balance of the flexible subsidy loan is to be re-amortized and a new use agreement was required in connection with prepayment of the section 202 loan until the maturity date.

Contact: Beverly J. Miller, Director, Office of Asset Management, Office of Housing, Department of Housing and Urban Development, 451 Seventh Street, SW., Washington, DC 20410-8000, telephone (202) 708-3730.

• Regulation: 24 CFR 236.60(e).

Project/Activity: Madonna Manor Apartments, Jackson, Mississippi, FHA Project Number 065-44802. The owner, Catholic Charities Housing Association of Jackson, requested permission to prepay the FHA-insured loan but were denied approval from HUD to retain the excess income retained between September 22, 2000 and July 2007.

Nature of Requirement: Section 236.60(e) of HUD's regulations provides guidelines for retaining excess income. Excess income is defined as cash collected as rent from the residents by the mortgagor on a unit-by-unit basis that is in excess of the HUD-approved unassisted Basic Rent. The mortgagor must submit a request to retain Excess Income at least 90 days before the beginning of each fiscal year or any other date during a fiscal year that the mortgagor plans to begin retaining Excess Income for that fiscal year. If HUD, following review of the request, approves the request the mortgagor will not be required to submit a new request each fiscal year provided the use of Excess Income remains the same.

Granted By: Brian D. Montgomery, Assistant Secretary for Housing-Federal Housing Commissioner.

Date Granted: October 23, 2007.

Reason Waived: The owner had previously been approved to retain the excess income. The following year the owner requested permission to retain the excess income on an indefinite basis. HUD staff failed to issue a letter of permission or denial. A new purchaser had been approved for both an FHA bond financed 221(d)(4) substantial rehabilitation loan and a section 236(e)(2) decoupling. It was determined that providing for a waiver of this requirement for the period September 22, 2000 to August 31, 2004 would allow the owner to prepay the existing mortgage and obtain financing to perform substantial rehabilitation of the improvements and repairs at the property. The proposed purchaser would continue to operate the project under a new use agreement preserving this housing for low-income residents until the maturity date of the new mortgage.

Contact: Beverly J. Miller, Director, Office of Asset Management, Office of Housing, Department of Housing and Urban Development, 451 Seventh Street, SW., Room 6160, Washington, DC 20410-8000, telephone (202) 708-3730.

• Regulation: 24 CFR 236.60(e).

Project/Activity: Country Village Apartments, Redwood Falls, Minnesota, FHA Project Number 092-44141. The owners requested a waiver of the requirement that the owner submit excess income for the subject property.

Nature of Requirement: Section 236.60(e) of HUD's regulations refers to retaining excess income. Excess income is defined as cash collected as rent from the residents by the mortgagor on a unit-by-unit basis that is in excess of the HUD-approved unassisted Basic Rent. The mortgagor must submit a request to retain Excess Income at least 90 days before the beginning of each fiscal year before any other date during a fiscal year that the mortgagor plans to begin retaining Excess Income for that fiscal year. If HUD, following review of the request approves the request, the mortgagor will not be required to submit a new request each fiscal year provided the use of Excess Income remains the same.

Granted By: Brian D. Montgomery, Assistant Secretary for Housing-Federal Housing Commissioner.

Date Granted: November 15, 2007.

Reason Waived: This regulation was waived to allow the project to retain excess income since the excess income was used for eligible Reserve for Replacement items. The owner was not aware that he needed make further requests to continue to retain excess income. However, the project's REAC scores improved from 56 in 1999 to 94 in 2003 and again in 2006. After approval of this request, the project is eligible for prepayment and the current owner advised of his intention to sell the project. The transaction also involved decoupling the existing 236 and prepaying the 236 mortgage with proceeds from a city bond financing. The state is also committing funds for rehabilitation.

Contact: Beverly J. Miller, Director, Office of Asset Management, Office of Housing, Department of Housing and Urban Development, 451 Seventh Street, SW., Room 6160, Washington, DC 20410-8000, telephone (202) 708-3730.

• Regulation: 24 CFR 811.108(a)(3).

Project/Activity: Mechanicville Elderly Apartments, Mechanicville, New York, FHA Project Number 014-35166. The Mechanicville Housing Authority requested approval to use final fund balances of the 1995 Multifamily Mortgage Revenue Refunding Bonds for energy efficiency measures at their two public housing projects.

Nature of Requirement: Section 811.108(a)(3) of HUD's regulations refers to the requirements for debt service reserve on FHA insured projects. The debt service reserve must be invested and the income used to pay principal and interest on that portion of the obligations which is attributable to the funding of the debt service reserve. Any excess investment income must be added to the debt service reserve. Should the investment income be insufficient, surplus cash or residual receipts, to the extent approved by the field office may be used to pay such principal and interest costs. Upon full payment of the principal and interest, on the obligations (including that portion of the obligations attributable to the funding of the debt service reserve) any funds remaining in the debt service reserve shall be remitted to HUD.

Granted By: Brian D. Montgomery, Assistant Secretary for Housing-Federal Housing Commissioner.

Date Granted: October 1, 2007.

Reason Waived: The Mechanicville Housing Authority requested waiver of this regulation in order to help finance energy efficiency improvements identified by an energy audit of its public housing projects. It was determined that a waiver would allow excess bond reserves to be used for desirable housing purposes. It was further determined that the Section 8 project which generated these funds is in excellent condition and did not need the money. This waiver would help finance the estimated $1 million of energy conservation improvements and thereby reduce the draw on HUD's operating subsidies to the Housing Authority.

Contact: Beverly J. Miller, Director, Office of Asset Management, Office of Housing, Department of Housing and Urban Development, 451 Seventh Street, SW., Room 6160, Washington, DC 20410-8000, telephone (202) 708-3730.

• Regulation: 24 CFR 891.100(d).

Project/Activity: Mount Beulah Terrace, Pagedale, MO, Project Number: 085-EE090/MO36-S051-006.

Nature of Requirement: Section 891.100(d) prohibits amendment of the amount of the approved capital advance funds prior to initial closing.

Granted By: Brian D. Montgomery, Assistant Secretary for Housing-Federal Housing Commissioner.

Date Granted: October 1, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Buena Vista Residence, Salem, MA, Project Number: 023-HD183/MA06-Q021-001.

Nature of Requirement: Section 891.100(d) prohibits amendment of the amount of the approved capital advance funds prior to initial closing.

Granted By: Brian D. Montgomery, Assistant Secretary for Housing-Federal Housing Commissioner.

Date Granted: October 3, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Meadows, North Smithfield, RI, Project Number: 016-EE046/RI43-S021-003.

Nature of Requirement: Section 891.100(d) prohibits amendment of the amount of the approved capital advance funds prior to initial closing.

Granted By: Brian D. Montgomery, Assistant Secretary for Housing-Federal Housing Commissioner.

Date Granted: October 16, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Lutheran Village at Chippewa, Beaver Falls, PA, Project Number: 033-EE126/PA28-S051-002.

Nature of Requirement: Section 891.100(d) prohibits amendment of the amount of the approved capital advance funds prior to initial closing.

Granted By: Brian D. Montgomery, Assistant Secretary for Housing-Federal Housing Commissioner.

Date Granted: October 19, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Summit Apartments, Kansas City, MO, Project Number: 084-HD056/MO16-Q061-002.

Nature of Requirement: Section 891.100(d) prohibits amendment of the amount of the approved capital advance funds prior to initial closing.

Granted By: Brian D. Montgomery, Assistant Secretary for Housing-Federal Housing Commissioner.

Date Granted: November 8, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Mosaic Housing XVI, Farmington, NM, Project Number: 116-HD029/NM16-Q061-001.

Nature of Requirement: Section 891.100(d) prohibits amendment of the amount of the approved capital advance funds prior to initial closing.

Granted By: Brian D. Montgomery, Assistant Secretary for Housing-Federal Housing Commissioner.

Date Granted: November 13, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: D Street Senior Housing, Ontario, CA, Project Number: 143-EE060/CA43-Q051-002.

Nature of Requirement: Section 891.100(d) prohibits amendment of the amount of the approved capital advance funds prior to initial closing.

Granted By: Brian D. Montgomery, Assistant Secretary for Housing-Federal Housing Commissioner.

Date Granted: December 6, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Sequoyah Apartments, Broken Arrow, OK, Project Number: 118-EE044/OK56-S061-001.

Nature of Requirement: Section 891.100(d) prohibits amendment of the amount of the approved capital advance funds prior to initial closing.

Granted By: Brian D. Montgomery, Assistant Secretary for Housing-Federal Housing Commissioner.

Date Granted: December 6, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Itek Tuchena, Durant, OK, Project Number: 118-EE047/OK56-S061-004.

Nature of Requirement: Section 891.100(d) prohibits amendment of the amount of the approved capital advance funds prior to initial closing.

Granted By: Brian D. Montgomery, Assistant Secretary for Housing-Federal Housing Commissioner.

Date Granted: December 10, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Spruce Street House of Hope, Nashville, TN, Project Number: 086-HD039/TN43-Q061-003.

Nature of Requirement: Section 891.100(d) prohibits amendment of the amount of the approved capital advance funds prior to initial closing.

Granted By: Brian D. Montgomery, Assistant Secretary for Housing-Federal Housing Commissioner.

Date Granted: December 27, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: ASI Freeport Senior Housing, Freeport, IL, Project Number: 071-EE224/IL06-S061-005.

Nature of Requirement: Section 891.100(d) prohibits amendment of the amount of the approved capital advance funds prior to initial closing.

Granted By: Brian D. Montgomery, Assistant Secretary for Housing-Federal Housing Commissioner.

Date Granted: December 27, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Haven Peniel Senior Citizens Residence, Philadelphia, PA, Project Number: 034-EE151/PA26-S061-003.

Nature of Requirement: Section 891.100(d) prohibits amendment of the amount of the approved capital advance funds prior to initial closing.

Granted By: Brian D. Montgomery, Assistant Secretary for Housing-Federal Housing Commissioner.

Date Granted: December 27, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.130(a).

Project/Activity: Summit Apartments, Kansas City, MO, Project Number: 084-HD056/MO16-Q061-002.

Nature of Requirement: Section 891.130(a) prohibits an identity of interest between the sponsor or owner with development team members or between development team members until two years after final closing.

Granted By: Brian D. Montgomery, Assistant Secretary for Housing-Federal Housing Commissioner.

Date Granted: November 28, 2007.

Reason Waived: The seller of the land, although a member of the Sponsor's Board, donated the site, with the exception of a $10 transfer fee.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Buena Vista Residence, Salem, MA, Project Number: 023-HD183/MA06-Q021-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: October 3, 2007.

Reason Waived: The sponsor/owner needed additional time to obtain a more experienced contractor and to revise the firm commitment application.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: La Palma Apartments, Miami-Dale County, FL, Project Number: 066-EE093/FL29-S021-014.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: October 3, 2007.

Reason Waived: The sponsor/owner needed additional time to receive final approval of secondary financing documents a waiver of impact fees.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Homes of Care I, Lawrence, MA, Project Number: 023HD218/MA06-Q041-007.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: October 3, 2007.

Reason Waived: The sponsor/owner needed additional time to receive final approval of secondary financing and to meet new design regulations.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: The Presbyterian Homes of Dover, Toms River Township, NJ, Project Number: 035-EE050/NJ39-S041-004.

Nature of Requirement: Section 891.165 provides that the duration of the fund reservation of the capital advance is 18 months from the date of issuance with limited exceptions up to 24 months, as approved by HUD on a case-by-case basis.

Granted by: Brian D. Montgomery, Assistant Secretary for Housing-Federal Housing Commissioner.

Date Granted: October 16, 2007.

Reason Waived: The sponsor/owner needed additional time for the site to be conveyed from the Township to the owner.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Aliff Place, Fort Gay, WV, Project Number: 045-HD040/WV15-Q041-002.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: October 29, 2007.

Reason Waived: The sponsor/owner needed additional time for the Town of Fort Gay to obtain funds to pave the street and the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Hattie Jackson II, Washington Court House, OH, Project Number: 043-EE108/OH16-S041-009.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: November 1, 2007.

Reason Waived: The sponsor/owner needed additional time to revise the easement description, and allow the closing documents to be recorded for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Wade Chateau, Cleveland, OH, Project Number: 042-EE168/OH12-S041-004.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: November 8, 2007.

Reason Waived: The sponsor/owner needed additional time for this mixed-finance project to meet the underwriting criteria of multiple funding sources and for initial closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Alternative Homes 2005, Alpha Borough, NJ, Project Number: 031-HD147/NJ39-Q051-003.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: November 15, 2007.

Reason Waived: The sponsor/owner needed additional time to secure additional funding.

Contact: Willie Spearmon, Director, Office of Housing Assistance and Grant Administration, Office of Housing, Department of Housing and Urban Development, 451 Seventh Street, SW., Room 6134,Washington, DC 20410-8000, telephone (202) 708-3000.

• Regulation: 24 CFR 891.165.

Project/Activity: Cornerstone Homes, New Orleans, LA, Project Number: 064-EE167/LA48-S041-005.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 4, 2007.

Reason Waived: The sponsor/owner needed additional time for a new site to be approved, the firm commitment to be issued and for the project to be initially closed.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Mockingbird Apartments, Denton, TX, Project Number: 113-HD036/TX16-Q051-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 6, 2007.

Reason Waived: The sponsor/owner needed additional time for the new site to be approved, for the firm commitment to be processed and for the project to reach initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Lil Jackson Senior Community, Oceanside, CA, Project Number: 129-EE032/CA33-S051-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 11, 2007.

Reason Waived: The sponsor/owner needed additional time to complete the environmental review process required by the City, for the firm commitment and for the project to reach initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Vista Del Sol, Northridge, CA, Project Number: 122-HD166/CA16-Q051-004.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 12, 2007.

Reason Waived: The project experienced significant delays while the sponsor/owner needed additional time to sought additional funding, and developed the appropriate wage standards required by the city.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Princeton Manor, Florida City, FL, Project Number: 066-EE103/FL29-S041-006.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 20, 2007.

Reason Waived: The sponsor/owner needed additional time to obtain a partial release of security for the new site, for the firm commitment to be processed and for the project to reach initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Morris Heights Senior Housing, Bronx, NY, Project Number: 012-EE332/NY36-S041-002.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 20, 2007.

Reason Waived: The sponsor/owner needed additional time for this mixed finance project to proceed to initial closing.

Contact: Willie Spearmon, Director, Office of Housing Assistance and Grant Administration, Office of Housing. Department of Housing and Urban Development, 451 Seventh Street, SW., Washington, DC 20410-8000, telephone (202) 708-3000.

• Regulation: 24 CFR 891.165.

Project/Activity: UCP Glendale Accessible Apartments, Glendale, CA, Project Number: 122-HD163/CA16-Q051-001.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 27, 2007.

Reason Waived: The sponsor/owner needed additional time to complete the city's lengthy plan check review and to secure additional funding.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Share XIII (aka South Country Homes II), South Setauket, NY, Project Number: 012-HD126/NY36-Q041-005.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 27, 2007.

Reason Waived: The sponsor/owner needed additional time for the initially closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Share XII (aka South Country Homes I), South Setauket, NY, Project Number: 012-HD125/NY36-Q041-004.

Nature of Requirement: Section 891.165 provides that the duration of the fund reservation of the capital advance is 18 months from the date of issuance with limited exceptions up to 24 months, as approved by HUD on a case-by-case basis.

Granted By: Brian D. Montgomery, Assistant Secretary for Housing-Federal Housing Commissioner.

Date Granted: December 27, 2007.

Reason Waived: The sponsor/owner needed additional time for the initially closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.305.

Project/Activity: Summit Apartments, Kansas City, MO, Project Number: 084-HD056/MO16-Q061-002.

Nature of Requirement: Section 891.305 requires Section 811 project owners to have tax-exempt status under section 501(c)(3) of the Internal Revenue Code.

Granted By: Brian D. Montgomergy, Assistant Secretary for Housing-Federal Housing Commissioner.

Date Granted: November 7, 2007.

Reason Waived: The required tax-exemption ruling from the Internal Revenue Service (IRS) although applied for, had not been issued in time for the scheduled initial closing of the project.

Contact: Willie Spearmon, Director, Office of Housing Assistance and Grant Administration, Office of Housing, Department of Housing and Urban Development, 451 Seventh Street, SW., Room 6134, Washington, DC 20410-8000, telephone (202) 798-3000.

• Regulation: 24 CFR 891.310(b)(1) and 891.310(b)(2).

Project/Activity: Share XII (aka South Country Homes II), Project Number: 012-HD125/NY36-Q041-004.

Nature of Requirement: Section 891.310(b)(1) requires that all entrances, common areas, units to be occupied by resident staff, and amenities must be readily accessible to and usable by persons with disabilities. Section 891.310(b)(2) requires that a minimum of 10 percent of all bedrooms and bathrooms in a group home for the chronically mentally ill be accessible or adaptable for persons with disabilities.

Granted By: Brian D. Montgomergy, Assistant Secretary for Housing-Federal Housing Commissioner.

Date Granted: December 26, 2007.

Reason Waived: It was determined that the design of three of the four existing single family homes was such that it would not be economically or architecturally feasible to make all four group homes accessible. One group home would be accessible and if additional accessible units are needed, the sponsor has other permanent housing projects which are accessible.

Contact: Willie Spearmon, Director, Office of Housing Assistance and Grant Administration, Office of Housing, Department of Housing and Urban Development, 451 Seventh Street, SW., Room 6134, Washington, DC 20410-8000, telephone (202) 798-3000.

• Regulation: 24 CFR 891.805 and 891.830(b) and 891.830(c)(4).

Project/Activity: Essex Senior Housing, Essex, VT, Project Number: 024-EE098/VT36-S061-001.

Nature of Requirement: Section 891.805 requires that the Sole General Partner of the Mixed Finance Owner be a Private Nonprofit Organization with a section 501(c)(3) or 501(c)(4) tax exemption (in the case of supportive housing for the elderly), or a Nonprofit Organization with a 501(c)(3) (in the case of supportive housing for persons with disabilities. Section 891.830(b) requires that capital advance funds be drawn down only in approved ratio to other funds, in accordance with a drawdown schedule approved by HUD. Section 891.830(c)(4) prohibits the capital advance funds from paying off bridge or construction financing, or repaying or collateralizing bonds.

Granted By: Brian D. Montgomergy, Assistant Secretary for Housing-Federal Housing Commissioner.

Date Granted: December 18, 2007.

Reason Waived: The proposed sole nonprofit general partner of the for-profit mixed finance owner met the statutoy definition. It was determined that the waiver of § 891.830(b) would permit other funding sources to be disbursed faster than a pro rata basis, as required by HUD, in order to satisfy IRS's fifty percent test. However, the capital advance funds would not be drawn down any faster that a pro rata disbursement basis would have permitted. It was determined that the waiver of § 891.830(c)(4) would permit capital advance funds to be used to pay off that portion of a bridge or construction financing, or repaying a portion of bonds that strictly relate to capital advance eligible costs. However, the capital advance funds would not be used to pay for construction interest or any transaction costs associated with the tax-exempt bonds or low-income housing tax credits financing.

Contact: Willie Spearmon, Director, Office of Housing Assistance and Grant Administration, Office of Housing, Department of Housing and Urban Development, 451 Seventh Street, SW., Room 6134, Washington, DC 20410-8000, telephone (202) 798-3000.

• Regulation: 24 CFR 891.410(c).

Project/Activity: Brick Consumer Home, Brick Township, New Jersey—FHA Project Number 035-HD003. This project has experienced move-outs and a general lack of interest in shared housing. A waiver of the very-low income requirement for one resident was requested.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted By: Brian D. Montgomery, Assistant Secretary for Housing-Federal Housing Commissioner.

Date Granted: October 22, 2007.

Reason Waived: This property experienced three move-outs between 2005 and 2006. Due to the lack of interest in shared housing, management had difficulty maintaining full occupancy. A waiver of the very-low income requirement was requested for one resident who was admitted into the property in error. At the time, it was believed that the tenant met the exception that stipulates that low-income limits were to be used for Section 811 projects funded in FY 1995. However, management used the date the Project Rental Assistance Contract was executed instead of the date indicated on the funding reservation letter. It was discovered when management submitted a voucher for payment and an error was generated indicating the tenant's income exceeded the very-low limit and that a waiver would be required. The property is a Section 811 Capital Advance project for the disabled and is a three-bedroom house designated for chronically mentally ill clientele. This waiver was granted to prevent hardship to the subject tenant and allow them to remain at the property and not be displaced as a result of owner/management error and further help the property achieve 100 percent occupancy.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Prairie Haven, South Sioux City, Nebraska, FHA Project Number 103-EE016. The owner of Prairie Haven has requested permission to waive the very-low income requirement to help alleviate the current occupancy level and financial problems the property is experiencing.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted By: Brian D. Montgomery, Assistant Secretary for Housing-Federal Housing Commissioner.

Date Granted: November 15, 2007.

Reason Waived: This regulatory waiver was granted to Prairie Haven to allow the property to rent to persons who are above the very low-income limits to the low-income limits (between 51 and 80 percent of area median income). Due to the remote location in the rural area within the municipality of South Sioux City, the owner has been unable to attract and maintain very low-income elderly applicants. The property had an average vacancy rate of 26.67 percent in 2007, despite management's extensive outreach and marketing efforts. The Kansas City Multifamily Hub reported that the local housing market continues to indicate an insufficient demand for very low-income elderly renters. Providing the waiver alleviated the current financial problems the project is experiencing and save the project from foreclosure.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Shepherd Place Apartments, Carlisle, Kentucky, FHA Project Number 083-EH268. The owner/managing agent requested waiver of the very low-income restriction and elderly restriction in order to permit admission of lower-income (incomes between 51 and 80 percent of median), near-elderly applicants (between the age of 55 and 62), when there are no very low-income elderly applicants to fill vacant units.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted By: Brian D. Montgomery, Assistant Secretary for Housing-Federal Housing Commissioner.

Date Granted: October 15, 2007.

Reason Waived: This property is located in rural Nicholas County. The owner/managing agent reported that the Bourbon County Housing Authority reported vacancies and several other housing complexes throughout the surrounding counties of Bourbon, Harrison and Nicholas report vacancies. The market analysis indicated there was insufficient effective demand to fill the complex with very low-income elderly. It was determined that granting the waiver would allow the property to have the flexibility to offer units to individuals who meet the definition of lower income and near elderly and the owner would be able to increase occupancy levels and stabilize the project's current financial status and prevent foreclosure.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Sunset Fields Apartments, Fennimore, Wisconsin, FHA Project Number 075-EE058. The project is experiencing severe vacancy problems. There is little demand by very low-income elderly for this type of housing in this small town.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted By: Brian D. Montgomery, Assistant Secretary for Housing-Federal Housing Commissioner.

Date Granted: November 15, 2007.

Reason Waived: A waiver of the very low-income restriction and elderly restriction was granted in order to permit admission of lower-income (incomes between 51 and 80 percent of median) applicants where there are no very low-income elderly applicants to fill vacant units. There are currently three vacant units and one application from a lower income person. It was determined that this waiver would assist the project in operating successfully, to achieve full occupancy and perhaps develop a waiting list by expanding their leasing options.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Maplewood Estates, Stockton, Missouri—FHA Project Number 084-EE061. This project has had an average vacancy rate of 74 percent for the last twelve months despite management's extensive outreach efforts.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted By: Brian D. Montgomery, Assistant Secretary for Housing-Federal Housing Commissioner.

Date Granted: December 20, 2007.

Reason Waived: This property was experiencing a very slow rent up process since initial occupancy on September 27, 2006. As of August 2007, 15 out of 27 units were still vacant. Management established an extensive marketing campaign that included radio and newspaper advertisements that were ongoing since August 2006. The property had difficulty remaining operational because the rental income, current at the time, did not cover the project's essential operating costs. It was determined that granting the waiver would allow the property owner to rent to persons who are above the very low-income limits to the low-income limits and alleviate their cash flow problems by assisting the property to achieve full occupancy.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Fair Haven West, Pella, Iowa—FHA Project Number 074-EE044. This project has had an average vacancy rate of 26.21 percent for the past fourteen months despite management's extensive outreach efforts.

Nature of Requirement: Section 891.410 relates to admission of families to projects for elderly or handicapped families that receive reservations under Section 202 of the Housing Act of 1959 and housing assistance under Section 8 of the U.S. Housing Act of 1937. Section 891.410(c) limits occupancy to very low-income elderly persons. To qualify, households must include a minimum of one person who is at least 62 years of age at the time of initial occupancy.

Granted By: Brian D. Montgomery, Assistant Secretary for Housing-Federal Housing Commissioner.

Date Granted: November 29, 2007.

Reason Waived: A waiver of the income requirement was granted to assist management in renting up vacant units at this property. Due to the remote location in the rural area within the municipality of Pella, the owner was unable to attract and maintain very low-income elderly applicants. The local housing market continued to indicate an insufficient demand for very low-income elderly renters. Because the current occupancy level would not support the complex, it was determined that waiver of this regulation would allow the property to rent units to persons who are at the low-income limit, between 51 and 80 percent of the area median income, giving the owner additional flexibility in attempting to rent vacant units and perhaps start a waiting list.

Contact: Beverly J. Miller, Director, Office of Asset Management, Office of Housing, Department of Housing and Urban Development, 451 Seventh Street, SW., Room 6160, Washington, DC 20410-8000, telephone (202) 708-3730.

III. Regulatory Waivers Granted by the Office of Public and Indian Housing

For further information about the following regulatory waivers, please see the name of the contact person that immediately follows the description of the waiver granted.

• Regulation: 24 CFR 5.801.

Project/Activity: Union Township Housing Authority, (NJ109), Union, NJ.

Nature of Requirement: Section 5.801 of HUD's regulations establishes certain reporting compliance dates. The audited financial statements are required to be submitted no later than nine months after the fiscal year end (FYE) of the housing authority in accordance with the Single Audit Act and OMB Circular A-133.

Granted By: Orlando J. Cabrera, Assistant Secretary for Public and Indian Housing.

Date Granted: October 30, 2007.

Reason Waived: The HA, a Section 8 only HA, requested a waiver of the audited financial reporting requirements under the Section 8 Program for FYE December 31, 2006, because the HA is under the single audit requirements of the Office of Management and Budget A-133 and does not conduct a separate audit. Additionally, the HA was granted a realignment of its FYE from March 31 to December 31, to correspond with the fiscal year end of the primary government, the Township of Union. The HA was granted a waiver because the circumstances that prevented the HA from submitting the audited financial data were beyond the HA's control. Nevertheless, with the FYE change, the HA is required to submit a hardcopy of the audit report to the HUD Field Office upon completion of the single audit.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: City of Meriden Housing Authority, (CT011), Meriden, CT.

Nature of Requirement: Section 5.801 of HUD's regulations establishes certain reporting compliance dates. The audited financial statements are required to be submitted no later than nine months after the fiscal year end (FYE) of the housing authority in accordance with the Single Audit Act and OMB Circular A-133.

Granted By: Orlando J. Cabrera, Assistant Secretary for Public and Indian Housing.

Date Granted: November 6, 2007.

Reason Waived: The HA requested a waiver for the removal of the Late Presumptive Failure (LPF) score of zero for the audited Financial Assessment Subsystem (FASS) Indicator for FYE September 30, 2006. The HA's audited financial submission was rejected, but due to server problems that impeded communication between the auditor and the HA, the HA failed to resubmit a corrected submission by the prescribed due date. The waiver granted the HA invalidation of the LPF, and resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Monroe Co. Housing Authority, (PA028), Stroudsburg, PA.

Nature of Requirement: Section 5.801 of HUD's regulations establishes certain reporting compliance dates. The audited financial statements are required to be submitted no later than nine months after the fiscal year end (FYE) of the housing authority in accordance with the Single Audit Act and OMB Circular A-133.

Granted By: Orlando J. Cabrera, Assistant Secretary for Public and Indian Housing.

Date Granted: November 30, 2007.

Reason Waived: The HA requested a waiver for the removal of the Late Presumptive Failure (LPF) score of zero for the audited Financial Assessment Subsystem (FASS) Indicator for FYE December 31, 2006, whose submission due date was September 30, 2007. The HA and the auditor completed the first and second step of the three-step audit submission process on September 20, 2007; however, the auditor failed to notify the HA that the process was completed and the submission ready for submission to the REAC. Due to the miscommunication, the HA missed the submission due date that resulted in the LPF. The waiver granted the HA invalidation of the LPF, and resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: City of Evansville Housing Authority, (IN016), Evansville, IN.

Nature of Requirement: Section 5.801 of HUD's regulations establishes certain reporting compliance dates. The audited financial statements are required to be submitted no later than nine months after the fiscal year end (FYE) of the housing authority in accordance with the Single Audit Act and OMB Circular A-133.

Granted By: Orlando J. Cabrera, Assistant Secretary for Public and Indian Housing.

Date Granted: December 5, 2007.

Reason Waived: The HA requested a waiver of the due date of September 30, 2007, for the resubmission of the audited financial submission for FYE December 31, 2006. The HA and the auditor completed the first and second step of the three-step audit submission process on September 27, 2007; however, the auditor failed to notify the HA that the process was completed and ready for submission to the REAC. Due to the miscommunication, the HA missed the submission due date that resulted in the LPF. The waiver granted the HA invalidation of the LPF, and resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Marlborough Community Development Authority Housing Division, (MA070), Marlborough, MA.

Nature of Requirement: Section 5.801 of HUD's regulations establishes certain reporting compliance dates. The audited financial statements are required to be submitted no later than nine months after the fiscal year end (FYE) of the housing authority in accordance with the Single Audit Act and OMB Circular A-133.

Granted By: Orlando J. Cabrera, Assistant Secretary for Public and Indian Housing.

Date Granted: December 6, 2007.

Reason Waived: The HA, a Section 8 only entity, requested a waiver of the audited financial submission due date of September 30, 2007, for FYE December 31, 2006. The HA is a component unit of the City of Marlborough whose FYE is June 30, 2007. The HA was advised to request a FYE Change to coincide with the FYE of the primary reporting entity, the City of Marlborough. The waiver granted invalidation of the Failure to Submit (FTS) and allowed the HA to submit its audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: City of Renton Housing Authority, (WA011), Renton, WA.

Nature of Requirement: Section 5.801 of HUD's regulations establishes certain reporting compliance dates. The audited financial statements are required to be submitted no later than nine months after the fiscal year end (FYE) of the housing authority in accordance with the Single Audit Act and OMB Circular A-133.

Granted By: Orlando J. Cabrera, Assistant Secretary for Public and Indian Housing.

Date Granted: December 28, 2007.

Reason Waived: The HA requested a waiver of the resubmission due date of October 28, 2007, for the submission of the audited financial submission for FYE December 31, 2006. The HA and the auditor completed the first and second step of the three-step audit submission process on October 23, 2007; however, the auditor failed to notify the HA that the process was completed and ready for submission to the REAC. Due to the miscommunication, the HA missed the resubmission due date that resulted in the LPF. The waiver granted the HA invalidation of the LPF, and resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.20.

Project/Activity: District of Columbia Housing Authority, (DC001), Washington, DC.

Nature of Requirement: The objective of this regulation is to determine whether a housing authority (HA) is meeting the standard of decent, safe, sanitary, and in good repair. The Real Estate Assessment Center (REAC) provides for an independent physical inspection of a HA's property of properties that includes a statistically valid sample of the units.

Granted By: Orlando J. Cabrera, Assistant Secretary for Public and Indian Housing.

Date Granted: November 2, 2007.

Reason Waived: The HA requested a waiver of the physical inspections under Physical Assessment Subsystem (PASS) Indicator of the Public Housing Assessment Subsystem (PHAS) for fiscal year ending (FYE) September 30, 2007. The waiver granted a cancellation of the PASS inspections because 31 of the HA's 41 developments are in the midst of a comprehensive rehabilitation project that will ensure 20 year viability. HUD confirmed that the contracts are in place and the rehabilitation efforts are underway. Physical inspections will resume for the FYE September 30, 2008, assessment cycle.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.20.

Project/Activity: Housing Authority of the City of Wisconsin Rapids, (WI068), Wisconsin Rapids, WI.

Nature of Requirement: The objective of this regulation is to determine whether a housing authority (HA) is meeting the standard of decent, safe, sanitary, and in good repair. The Real Estate Assessment Center (REAC) provides for an independent physical inspection of a HA's property of properties that includes a statistically valid sample of the units.

Granted By: Orlando J. Cabrera, Assistant Secretary for Public and Indian Housing.

Date Granted: September 17, 2007.

Reason Waived: The HA requested a waiver of the physical inspections and Physical Assessment Subsystem (PASS) indicator score for fiscal year ending (FYE) December 31, 2006, because of major hail storm damage to HA's properties whose repairs were not scheduled to be completed until December 2007. The waiver granted a cancellation of the PASS inspections for FYE December 31, 2006. Physical inspections will resume for the FYE December 31, 2007, assessment cycle.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.60(d) and 24 CFR 902.60(e).

Project/Activity: Housing Authority of East Baton Rouge Parrish, (LA003), Baton Rouge, LA.

Nature of Requirement: These regulations establish annual certification requirements for management operations and resident satisfaction surveys.

Granted By: Orlando J. Cabrera, Assistant Secretary for Public and Indian Housing.

Date Granted: November 28, 2007.

Reason Waived: The Housing Authority of East Baton Rouge Parrish (HA) requested a waiver to have more resources to concentrate on organizational, procedural and software changes to convert to asset management. The HA was granted a waiver of the requirements of 24 CFR 902.60(d), to submit a management operations certification, and 24 CFR 902.60(e), to undertake the resident satisfaction survey, for the fiscal year ending (FYE) September 30, 2007. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Housing Authority of City of Ashville, (NC007), Ashville, NC.

Nature of Requirement: These regulations establish annual certification requirements for management operations and resident satisfaction surveys.

Granted By: Orlando J. Cabrera, Assistant Secretary for Public and Indian Housing.

Date Granted: December 17, 2007.

Reason Waived: Housing Authority of City of Ashville (HA) requested a waiver to have more resources to concentrate on organizational, procedural and software changes to convert to asset management. The HA was granted a waiver of the requirements of 24 CFR 902.60(d), to submit a management operations certification, and 24 CFR 902.60(e), to undertake the resident satisfaction survey, for the fiscal year ending (FYE) September 30, 2007. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Dallas Housing Authority, (TX009), Dallas, TX.

Nature of Requirement: The regulation establishes annual certification requirements for management operations and resident satisfaction surveys.

Granted By: Orlando J. Cabrera, Assistant Secretary for Public and Indian Housing.

Date Granted: December 17, 2007.

Reason Waived: The Dallas Housing Authority (HA) requested a waiver to have more resources to concentrate on organizational, procedural and software changes to convert to asset management. The HA was granted a waiver of the requirements of 24 CFR 902.60(d), to submit a management operations certification, and 24 CFR 902.60(e), to undertake the resident satisfaction survey, for the fiscal year ending (FYE) December 31, 2007. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Decatur Housing Authority, (IL012), Decatur, IL.

Nature of Requirement: The regulation establishes annual certification requirements for management operations and resident satisfaction surveys.

Granted By: Orlando J. Cabrera, Assistant Secretary for Public and Indian Housing.

Date Granted: December 18, 2007.

Reason Waived: The Decatur Housing Authority (HA) requested a waiver to have more resources to concentrate on organizational, procedural and software changes to convert to asset management. The HA was granted a waiver of the requirements of 24 CFR 902.60(d), to submit a management operations certification, and 24 CFR 902.60(e), to undertake the resident satisfaction survey, for the fiscal year ending (FYE) March 31, 2008. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Housing Authority of the City of Greenville, (NC022), Greenville, NC.

Nature of Requirement: The regulation establishes annual certification requirements for management operations and resident satisfaction surveys.

Granted By: Orlando J. Cabrera, Assistant Secretary for Public and Indian Housing.

Date Granted: December 28, 2007.

Reason Waived: The Housing Authority for the City of Greenville (HA) requested the waiver to have more resources to concentrate on organizational, procedural and software changes to convert to asset management. The HA was granted a waiver of the requirements of 24 CFR 902.60(d), to submit a management operations certification, and 24 CFR 902.60(e), to undertake the resident satisfaction survey, for the fiscal year ending (FYE) March 31, 2008. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Huntsville Housing Authority, (AL047), Huntsville, AL.

Nature of Requirement: The regulation establishes annual certification requirements for management operations and resident satisfaction surveys.

Granted By: Orlando J. Cabrera, Assistant Secretary for Public and Indian Housing.

Date Granted: December 28, 2007.

Reason Waived: The Huntsville Housing Authority (HA) requested the waiver to have more resources to concentrate on organizational, procedural and software changes to convert to asset management. The HA was granted a waiver of the requirements of 24 CFR 902.60(d), to submit a management operations certification, and 24 CFR 902.60(e), to undertake the resident satisfaction survey, for the fiscal year ending (FYE) March 31, 2008. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Winfield Housing Authority, (AL058), Winfield, AL.

Nature of Requirement: The regulation establishes annual certification requirements for management operations and resident satisfaction surveys.

Granted By: Orlando J. Cabrera, Assistant Secretary for Public and Indian Housing.

Date Granted: December 28, 2007.

Reason Waived: The Winfield Housing Authority (HA) requested the waiver to have more resources to concentrate on organizational, procedural and software changes to convert to asset management. The HA was granted a waiver of the requirements of 24 CFR 902.60(d), to submit a management operations certification, and 24 CFR 902.60(e), to undertake the resident satisfaction survey, for the fiscal year ending (FYE) March 31, 2008. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Bear Creek Housing Authority, (AL081), Guin, AL.

Nature of Requirement: The regulation establishes annual certification requirements for management operations and resident satisfaction surveys.

Granted By: Orlando J. Cabrera, Assistant Secretary for Public and Indian Housing.

Date Granted: December 31, 2007.

Reason Waived: The Bear Creek Housing Authority (HA) requested the waiver to have more resources to concentrate on organizational, procedural and software changes to convert to asset management. The HA was granted a waiver of the requirements of 24 CFR 902.60(d), to submit a management operations certification, and 24 CFR 902.60(e), to undertake the resident satisfaction survey, for the fiscal year ending (FYE) March 31, 2008. HUD agreed to carry over the Management Assessment Subsystem (MASS) and Resident Assessment Subsystem (RASS) scores under the Public Housing Assessment System from the previous reporting period.

Contact: Greg Byrne, Director, Financial Management Division, Real Estate Assessment Center, Office of Public and Indian Housing, Department of Housing and Urban Development, 550 12th Street, SW., Suite 200, Washington, DC 20410-5000, telephone (202) 475-8632.

• Regulation: 24 CFR 941.606(n)(1)(ii).

Project/Activity: The Punta Gorda Housing Authority of (PGHA), Punta Gorda, FL, Gulf Breeze Apartments Mixed-Finance Project. This waiver is requested by PGHA as it pertains to the selection of Brooks and Freund, LLC as the general contractor for Gulf Breeze Apartments.

Nature of Requirement: Section 941.606(n)(1)(u) of HUD's regulations states “that if the partner and/or owner entity (or any other entity with an identity of interest with such parties) wants to serve as the general contractor for the project or development, it may award itself the construction contract only if it can demonstrate to HUD's satisfaction that its bid is the lowest bid submitted in response to a public request for bids.”

Granted By: Orlando J. Cabrera, Assistant Secretary for Public and Indian Housing.

Date Granted: October 22, 2007.

Reason Waived: PGHA submitted a certification by an independent third-party construction cost estimator prepared by Benchmark Estimating Services, Inc., for the Gulf Breeze Apartment project. This estimate totaled $18,690,310. HCPG also submitted the construction contract with Brooks and Freund, an affiliate of Norstar Development USA, which is the master developer for the project with a fixed-sum price of $18,450,772. PGHA demonstrated that the construction costs are reasonable and are within applicable HUD cost limits. HUD therefore granted the waiver as the Brooks and Freund cost is below that of the independent cost estimate and PGHA provided good cause to waive 24 CFR 941.606(n)(1)(ii)(B) in order to accomplish the mixed-finance development known as Gulf Breeze Apartments.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.606(n)(1)(ii)(B).

Project/Activity: Housing Authority of Fulton County (HAFC), Atlanta, GA, Mixed-Finance Rental Project. Waiver requested by HAFC for the Fulton County Replacement Housing Mixed-Finance Rental project consisting of 76 public housing/Low Income Tax Credit units (LIHTC), 116 project-based Section 8/LIHTC units, 71 LIHTC-only units and 29 market rate units.

Nature of Requirement: Section 941.606(n)(l)(u) of HUD's regulation states “that if the partner and/or owner entity (or any other entity with an identity of interests with such parties) wants to serve as the general contractor for the project or development, it may award itself the construction contract only if it can demonstrate to HUD's satisfaction that its bid is the lowest bid submitted in response to a public request for bids.”

Granted By: Orlando J. Cabrera, Assistant Secretary for Public and Indian Housing.

Date Granted: November 6, 2007.

Reason Waived: HAFC submitted a certification by an independent third-party construction cost estimator and HUD reviewed the independent cost estimates and related budgets. The project is below the Total Development Cost limit, pursuant to PIH Notice 2007-19, and HUD performed a fee analysis of the construction contract which showed that all of the construction fees are within HUD's Cost Control and Safe Harbor Standards, revised April 9, 2003. HAFC demonstrated that the construction costs are reasonable and are within applicable HUD cost limits. HUD granted the waiver because HAFC provided good cause to waive 24 CFR 941.606(n)(1)(ii)(B) in order to accomplish the mixed-finance development known as Arcadia at Parkway Village, Phase I.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1-7).

Project/Activity: Housing Authority of the City of Milwaukee (HACM), Milwaukee, WI, request to waive HUD review of certain legal documents for the Scattered Sites Mixed-Finance Project.

Nature of Requirement: Section 941.610(a)(1-7) of HUD's regulations requires HUD review and approval of certain legal documents related to mixed-finance development before closing can occur and public housing funds can be released. Under the waiver, these documents no longer need to be submitted to HUD for review. In lieu of HUD's review of these documents, and before public housing funds can be released, the PHA must submit documentation which certifies, in form specified by HUD, to the accuracy and authenticity of the legal documents detailed in 941.610 subparts (a)(1)-(a)(7). Granting a waiver of HUD's review and allowing the PHA to certify to the validity of certain legal documents will streamline the review process and expedite closing and public housing production.

Granted By: Orlando J. Cabrera, Assistant Secretary for Public and Indian Housing.

Date Granted: November 6, 2007.

Reason Waived: HACM is a high performing housing authority with extensive development and mixed-finance experience. The other development partners in the project are also experienced in public housing mixed-finance development. The Scattered Sites project includes Low Income Housing Tax Credits. The review process and financial control mechanisms associated with Low Income Housing Tax Credits are extensive. It was determined that HUD review would repeat and duplicate the activities which these processes are already performing. The financial structure of the Scattered Sites project is very similar to the previous mixed-finance projects undertaken by HACM, all of which underwent full evidentiary document review and approval by HUD. HACM advised that it would be represented by the same legal team for the Scattered Sites project that it used in several previous HOPE VI mixed-finance transactions. The legal team is very experienced and has long track record of success in these types of transactions.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1-7).

Project/Activity: King County Housing Authority (KCHA), Seattle, WA

Request to waive HUD review of certain legal documents for Salmon Creek Apartments HOPE VI Grant Number: WA19URD002I101.

Nature of Requirement: Section 941.610(a)(1-7) of HUD's regulations requires HUD review and approval of certain legal documents related to mixed-finance development before closing can occur and public housing funds can be released. Under the waiver, these documents no longer need to be submitted to HUD for review. In lieu of HUD's review of these documents, and before public housing funds can be released, the PHA must submit documentation which certifies, in form specified by HUD, to the accuracy and authenticity of the legal documents detailed in 941.610 subparts (a)(1)-(a)(7). Granting a waiver of HUD's review and allowing the PHA to certify to the validity of certain legal documents will streamline the review process and expedite closing and public housing production.

Granted By: Orlando J. Cabrera, Assistant Secretary for Public and Indian Housing.

Date Granted: November 6, 2007.

Reason Waived: KCHA is a high performing housing authority with extensive development and mixed-finance experience. The other development partners in the project are also experienced in public housing mixed-finance development. Salmon Creek is a mixed-finance transaction, and as such, includes HOPE VI, Low Income Housing Tax Credits, and private mortgage funds. The review process and financial control mechanisms associated with Low Income Housing Tax Credits are extensive. The private sector mortgage lender also reviews the project's financial and project documents. It was determined that HUD review would repeat and duplicate the activities which these processes are already performing. Salmon Creek project is very similar to the two previous mixed-finance projects undertaken by KCHA, both of which underwent full evidentiary document review and approval by HUD. HUD was advised that for Salmon Creek, KCHA would be the developer, as it had been for the two previous phases. HUD also was advised that the investor partner, attorneys, and financial advisors would remain the same and Bank of America again would provide construction financing.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1-7).

Project/Activity: Housing and Redevelopment Authority of Duluth (HRAD), Duluth, MN, request to waive HUD review of certain legal documents for Harbor View Homes HOPE VI Project: Phase III HOPE VI, Project Number: MN46URD003I102.

Nature of Requirement: Section 941.610(a)(1-7) of HUD's regulations requires HUD review and approval of certain legal documents related to mixed-finance development before closing can occur and public housing funds can be released. Under the waiver, these documents no longer need to be submitted to HUD for review. In lieu of HUD's review of these documents, and before public housing funds can be released, the PHA must submit documentation which certifies, in form specified by HUD, to the accuracy and authenticity of the legal documents detailed in 941.610 subparts (a)(1)-(a)(7). Granting a waiver of HUD's review and allowing the PHA to certify to the validity of certain legal documents will streamline the review process and expedite closing and public housing production.

Granted By: Orlando J. Cabrera, Assistant Secretary for Public and Indian Housing.

Date Granted: December 21, 2007.

Reason Waived: HRAD is a high performing housing authority with extensive development and mixed-finance experience. The partners in the project are equally experienced. As of the date of request of the regulatory waiver, HRAD had closed 4 phases of the Harbor View Homes HOPE VI project, including Phases I and II, which are also part of the on-site development. The partners in Phase III are basically the same as the partners in Phases I and II. Phase III is a mixed-finance transaction and includes Low Income Housing Tax Credits. Therefore, all partners have extensive internal review processes and financial control mechanisms related to the financing. It was determined that HUD review would repeat and duplicate the activities which these processes are already processing.

Contact: Dominique Blom, Deputy Assistant Secretary for the Office of Public Housing Investments, Office of Public and Indian Housing, Department of Housing and Urban Development, 451 Seventh Street, SW., Room 4130, Washington, DC 20140, telephone (202) 402-4181.

• Regulation: 24 CFR 982.505(d).

Project/Activity: Housing Authority of Snohomish County (HASC) Snohomish County, WA. HASC requested a waiver regarding exception payment standards so to provide reasonable accommodation to a person with disabilities.

Nature of Requirement: Section 982.505(d) states that a public housing agency may only approve a higher payment standard for a family as a reasonable accommodation if the higher payment standard is within the basic range of 90 to 110 percent of the fair market rent (FMR) for the unit size.

Granted by: Orlando J. Cabrera, Assistant Secretary for Public and Indian Housing.

Date Granted: November 6, 2007.

Reason Waived: The applicant, who is a person with disabilities, owns a manufactured home that meets her physical needs and is accessible to her social support system. To provide a reasonable accommodation so that this applicant pays no more than 40 percent of adjusted monthly income toward the family share, the HASC was granted a waiver to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.185(a).

Project/Activity: The Housing Authority of Baltimore City (HABC), Baltimore, MD. The HABC is contracting to an Energy Performance Company for a term longer than the stated 12-year maximum.

Nature of Requirement: On August 8, 2005, President Bush signed into law the Energy Policy Act of 2005 (Pub. L. 109-58, approved August 8, 2005). Section 151(2)(B) of Subtitle D (Public Housing) of this Act amends Section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: October 18, 2007.

Reason Waived: The HABC advised that it is undertaking a self-developed energy project, acting as an Energy Services company, and hired a qualified third party consultant to provide energy management expertise. HABC advised that it anticipated that recommendations arising from its energy audit would incorporate a selection of energy conservation measures whose life cycle expectations and costs would exceed the 12-year regulatory limitation in 24 CFR 990.185(a). The HABC anticipated that the selection of retrofits would be capable of generating adequate savings to amortize the resulting debt within the approved period of the energy performance contract. Based upon the anticipated savings and benefits to HABC and its residents, the waiver granted the HABC the 12-year payback period to allow up to a 20-year payback period, contingent on HUD's provisions to HABC.

HUD's provisions include additional information and technical activity requirements unique to the characteristics of the project and the PHA. The purpose of the provisions is to ensure success, minimizing risk to projected savings (used to amortize the loan) and to HUD. The PHA must comply with all of HUD's provisions for the waiver to be effective. The HUD provisions include, but are not limited to information requirements necessary for the local field office to monitor savings over the life of the loan, and procurement requirement to ensure fair and open competition. The HUD provisions are also a direct response to the Office of Management and Budget's (OMB) concern related to the higher risk levels associated with a 20-year versus the previous limit of 12 years. HUD, through these provisions, provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4226, Washington, DC 20410-5000, telephone (202) 708-0744.

• Regulation: 24 CFR 990.185(a).

Project/Activity: The Big Rapids Housing Commission (BRHC), Big Rapids, MI. The BRHC is contracting to an Energy Performance Company for a term longer than the stated 12-year maximum.

Nature of Requirement: On August 8, 2005, President Bush signed into law the Energy Policy Act of 2005 (Pub. L. 109-58, approved August 8, 2005). Section 151(2)(B) of Subtitle D (Public Housing) of this Act amends section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: October 18, 2007.

Reason Waived: The BRHC advised it is undertaking a self-developed energy project, acting as an Energy Services company, and hired a qualified third party consultant to provide energy management expertise. BRHC advised that it anticipated that recommendations arising from its energy audit would incorporate a selection of energy conservation measures whose life cycle expectations and costs would exceed the 12-year regulatory limitation in 24 CFR 990.185(a). The BRHC anticipated that the selection of retrofits would be capable of generating adequate savings to amortize the resulting debt within the approved period of the energy performance contract. Based upon the anticipated savings and benefits to BRHC and its residents, the waiver granted the BRHC the 12-year payback period to allow up to a 20-year payback period, contingent on HUD's provisions to BRHC.

HUD's provisions include additional information and technical activity requirements unique to the characteristics of the project and the PHA. The purpose of the provisions is to ensure success, minimizing risk to projected savings (used to amortize the loan) and to HUD. The PHA must comply with all of HUD's provisions for the waiver to be effective. The HUD provisions include, but are not limited to information requirements necessary for the local field office to monitor savings over the life of the loan, and procurement requirement to ensure fair and open competition. The HUD provisions are also a direct response to the Office of Management and Budget's (OMB) concern related to the higher risk levels associated with a 20-year versus the previous limit of 12 years. HUD, through these provisions, provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4226, Washington, DC 20410-5000, telephone (202) 708-0744.

• Regulation: 24 CFR 990.185(a).

Project/Activity: The Bethlehem Housing Authority (BHA), Bethlehem, PA. The BHA is contracting to an Energy Performance Company for a term longer than the stated 12-year maximum.

Nature of Requirement: On August 8, 2005, President Bush signed into law the Energy Policy Act of 2005 (Pub. L. 109-58, approved August 8, 2005). Section 151(2)(B) of Subtitle D (Public Housing) of this Act amends section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: October 18, 2007.

Reason Waived: The BHA advised that it is undertaking a self-developed energy project, acting as an Energy Services company, and hired a qualified third party consultant to provide energy management expertise. BHA advised that it anticipated that recommendations arising from its energy audit would incorporate a selection of energy conservation measures whose life cycle expectations and costs would exceed the 12-year regulatory limitation in 24 CFR 990.185(a). The BHA anticipated that the selection of retrofits would be capable of generating adequate savings to amortize the resulting debt within the approved period of the energy performance contract. Based upon the anticipated savings and benefits to BRHC and its residents, the waiver granted the BHA the 12-year payback period to allow up to a 20-year payback period, contingent on HUD's provisions to BHA.

HUD's provisions include additional information and technical activity requirements unique to the characteristics of the project and the PHA. The purpose of the provisions is to ensure success, minimizing risk to projected savings (used to amortize the loan) and to HUD. The PHA must comply with all of HUD's provisions for the waiver to be effective. The HUD provisions include, but are not limited to information requirements necessary for the local field office to monitor savings over the life of the loan, and procurement requirement to ensure fair and open competition. The HUD provisions are also a direct response to the Office of Management and Budget's (OMB) concern related to the higher risk levels associated with a 20-year versus the previous limit of 12 years. HUD, through these provisions, provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4226, Washington, DC 20410-5000, telephone (202) 708-0744.

• Regulation: 24 CFR 990.185(a).

Project/Activity: The Norwich Housing Authority (NHA), Norwich, Connecticut. The NHA is contracting to an Energy Performance Company for a term longer than the stated 12-year maximum.

Nature of Requirement: On August 8, 2005, President Bush signed into law the Energy Policy Act of 2005 (Pub. L. 109-58, approved August 8, 2005). Section 151(2)(B) of Subtitle D (Public Housing) of this Act amends Section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: November 7, 2007.

Reason Waived: The NHA advised that it is undertaking a self-developed energy project, acting as an Energy Services company, and has hired a qualified third party consultant to provide energy management expertise. NHA anticipated that recommendations arising from its energy audit would incorporate a selection of energy conservation measures whose life cycle expectations and costs would exceed the 12-year regulatory limitation in 24 CFR 990.185(a). The NHA anticipated that the selection of retrofits would be capable of generating adequate savings to amortize the resulting debt within the approved period of the energy performance contract. Based upon the anticipated savings and benefits to NHA and its residents, the waiver granted the NHA the 12-year payback period to allow up to a 20-year payback period, contingent on HUD's provisions to NHA.

HUD's provisions include additional information and technical activity requirements unique to the characteristics of the project and the PHA. The purpose of the provisions is to ensure success, minimizing risk to projected savings (used to amortize the loan) and to HUD. The PHA must comply with all of HUD's provisions for the waiver to be effective. The HUD provisions include, but are not limited to information requirements necessary for the local field office to monitor savings over the life of the loan, and procurement requirement to ensure fair and open competition. The HUD provisions are also a direct response to the Office of Management and Budget's (OMB) concern related to the higher risk levels associated with a 20-year versus the previous limit of 12 years. HUD, through these provisions, provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4226, Washington, DC 20410-5000, telephone (202) 708-0744.

• Regulation: 24 CFR 990.185(a).

Project/Activity: The Lackawanna County Housing Authority (LCHA), Lackawanna, Pennsylvania. The LCHA is contracting to an Energy Performance Company for a term longer than the stated 12-year maximum.

Nature of Requirement: On August 8, 2005, President Bush signed into law the Energy Policy Act of 2005 (Pub. L. 109-58, approved August 8, 2005). Section 151(2)(B) of Subtitle D (Public Housing) of this Act amends section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: November 13, 2007.

Reason Waived: The LCHA advised that it is undertaking a self-developed energy project, acting as an Energy Services company, and hired a qualified third party consultant to provide energy management expertise. LCHA anticipated that recommendations arising from its energy audit would incorporate a selection of energy conservation measures whose life cycle expectations and costs would exceed the 12-year regulatory limitation in 24 CFR 990.185(a). The LCHA anticipated that the selection of retrofits would be capable of generating adequate savings to amortize the resulting debt within the approved period of the energy performance contract. Based upon the anticipated savings and benefits to NHA and its residents, the waiver granted the LCHA the 12-year payback period to allow up to a 20-year payback period, contingent on HUD's provisions to LCHA.

HUD's provisions include additional information and technical activity requirements unique to the characteristics of the project and the PHA. The purpose of the provisions is to ensure success, minimizing risk to projected savings (used to amortize the loan) and to HUD. The PHA must comply with all of HUD's provisions for the waiver to be effective. The HUD provisions include, but are not limited to information requirements necessary for the local field office to monitor savings over the life of the loan, and procurement requirement to ensure fair and open competition. The HUD provisions are also a direct response to the Office of Management and Budget's (OMB) concern related to the higher risk levels associated with a 20-year versus the previous limit of 12 years. HUD, through these provisions, provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4226, Washington, DC 20410-5000, telephone (202) 708-0744.

[FR Doc. E8-5799 Filed 3-20-08; 8:45 am]

BILLING CODE 4210-67-P